DEPARTMENT OF TRANSPORTATION

Federal Aviation Administration

14 CFR Part 71

[Docket No. FAA-2011-0010; Airspace Docket No. 11-AAL-1]

Amendment of Federal Airways; Alaska

AGENCY: Federal Aviation Administration (FAA), DOT.

ACTION: Final rule; technical amendment.

SUMMARY: This action removes two modified VHF Omnidirectional Range (VOR) Federal airways, V-320 and V-440, from a final rule published in the Federal Register of April 28, 2011. That rule amended 29 Air Traffic Service (ATS) routes in Alaska affected by the relocation of the Anchorage VOR navigation aid. The FAA is taking this action as a result of these VOR Federal airways not passing flight inspections to retain existing minimum enroute altitude (MEA) requirements in the vicinity of Anchorage, AK.

DATES: Effective date 0901 UTC October 20, 2011.

FOR FURTHER INFORMATION CONTACT: Colby Abbott, Airspace, Regulations and ATC Procedures Group, Office of Mission Support Services, Federal Aviation Administration, 800 Independence Avenue, SW., Washington, DC 20591; telephone: (202) 267-8783.

SUPPLEMENTARY INFORMATION:

History

Federal Register Docket No. FAA-2011-0010, Airspace Docket No. 11-AAL-1 published on April 28, 2011 (76 FR 23687), amends all Federal Airways affected by the relocation of the Anchorage VOR navigation aid. The FAA subsequently delayed the effective date from June 30, 2011, until further notice (76 FR 35097; June 16, 2011).

The FAA has determined that V-320 and V-440 do not have satisfactory signal reception coverage capable of meeting the existing MEA requirements in the vicinity of Anchorage, AK. Amendments for these airways will be proposed at a future date under a separate rulemaking. Accordingly, this action is taken to remove these two Victor airways in Alaska.

The remaining 27 ATS routes, as amended, are unaffected by this action and the effective date remains delayed until further notice per the final rule, delay of effective date published in the Federal Register on June 16, 2011 (76 FR 35097).

VOR Federal airways are published in Paragraph 6010 of FAA Order 7400.9V, dated August 9, 2011, and effective September 15, 2011, which is incorporated by reference in 14 CFR 71.1. The VOR Federal airways listed in this document will be subsequently published in the Order.

The FAA has determined that this regulation only involves an established body of technical regulations for which frequent and routine amendments are necessary to keep them operationally current. Therefore, this regulation (1) Is not a significant regulatory action under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it modifies Federal airways in Alaska.

Final Rule Technical Amendment

Accordingly, pursuant to the authority delegated to me, the modified VOR Federal airways V-320 and V-440 legal descriptions as published in the Federal Register on April 28, 2011 (76 FR 23687), FR Doc. 2011-10240, page 23688, column 2, line 4, and column 3, line 4, respectively, are removed.

Issued in Washington, DC, on October 13, 2011.
Gary A. Norek,
Acting Manager, Airspace, Regulations and ATC Procedures Group.

[FR Doc. 2011-27118 Filed 10-19-11; 8:45 am]

BILLING CODE 4910-13-P